SMALL BUSINESS ADMINISTRATION

[Declaration of Disaster #P013]

State of North Dakota

As a result of the President's major disaster declaration for Public Assistance on August 1, 2003, the U.S. Small Business Administration is activating its disaster loan program only for private non-profit organizations that provide essential services of a governmental nature. I find that Barnes County in the State of North Dakota constitutes a disaster area due to damages caused by severe storms and high winds occurring on June 24 and June 25, 2003. Applications for loans for physical damage as a result of this disaster may be filed until the close of business on September 30, 2003 at the address listed below or other locally announced locations: Small Business Administration, Disaster Area 3 Office, 14925 Kingsport Rd., Ft. Worth, TX 76155-2243.

The interest rates are:

| Percent
For Physical Damage:
Non-Profit Organizations Without Credit Available Elsewhere | 2.953
Non-Profit Organizations With Credit Available Elsewhere | 5.500

The number assigned to this disaster for physical damage is P01311.

(Catalog of Federal Domestic Assistance Program Nos. 59008).

Dated: August 6, 2003.
Cheri L. Cannon,
Acting Associate Administrator for Disaster Assistance.

[FR Doc. 03-20518 Filed 8-11-03; 8:45 am]

BILLING CODE 8025-01-P